DEPARTMENT OF COMMERCE

International Trade Administration

[A-423-808]

Stainless Steel Plate in Coils From Belgium: Notice of Final Results of Antidumping Duty Changed Circumstances Review

AGENCY: Import Administration, International Trade Administration, Department of Commerce.

SUMMARY: The Department of Commerce (the “Department”) has determined that Aperam Stainless Belgium N.V. (“Aperam”) is the successor-in-interest to ArcelorMittal Stainless Belgium N.V. (“AMSB”). As a result, Aperam will be accorded the same treatment previously accorded AMSB with regard to the antidumping duty order on stainless steel plate in coils from Belgium (“SSPC from Belgium”), effective as of the date of publication of this notice in the Federal Register.

DATES: Effective April 12, 2012.

FOR FURTHER INFORMATION CONTACT: George McMahon or Stephanie Moore, AD/CVD Operations, Office 3, Import Administration, International Trade Administration, U.S. Department of Commerce, 14th Street & Constitution Avenue NW., Washington, DC 20230; telephone: (202) 482-1167 and (202) 482-3692, respectively.

Background

On May 21, 1999, the Department published in the Federal Register an antidumping duty order on stainless steel plate in coils from Belgium.¹ On June 14, 2011, Aperam filed a request for a changed circumstances review of the antidumping duty order on SSPC from Belgium. Aperam claimed that it is the successor-in-interest to AMSB and should be treated as such for purposes of the antidumping duty order.

¹ See Antidumping Duty Orders; Certain Stainless Steel Plate in Coils From Belgium, Canada, Italy, the Republic of Korea, South Africa, and Taiwan, 64 FR 27756 (May 21, 1999), amended by Notice of Amended Antidumping Duty Orders; Certain Stainless Steel Plate in Coils From Belgium, Canada, Italy, the Republic of Korea, South Africa, and Taiwan, 68 FR 11520 (March 11, 2003); Notice of Amended Antidumping Duty Orders; Certain Stainless Steel Plate in Coils From Belgium, Canada, Italy, the Republic of Korea, South Africa, and Taiwan, 68 FR 16117 (April 2, 2003); and Notice of Correction to the Amended Antidumping Duty Orders; Certain Stainless Steel Plate in Coils From Belgium, Canada, Italy, the Republic of Korea, South Africa, and Taiwan, 68 FR 20114 (April 24, 2003).

On July 29, 2011, the Department published its initiation of the instant changed circumstances review of the antidumping duty order on SSPC from Belgium.²

² See Stainless Steel Plate in Coils From Belgium: Notice of Initiation of Antidumping Duty Changed Circumstances Review, 76 FR 45511 (July 29, 2011).

On October 26, 2011, the Department published its preliminary results of changed circumstances review of the AD Order on SSPC from Belgium.³ The Department preliminarily determined that Aperam is the successor-in-interest to AMSB and should be treated as such for purposes of the antidumping duty order. In the Preliminary Results, we stated that interested parties could submit case briefs to the Department no later than 30 days after the publication of the Preliminary Results in the Federal Register, and submit rebuttal briefs seven days subsequent to the due date of the case briefs. Aperam submitted a case brief on November 23, 2011, and no interested parties submitted a rebuttal brief.

³ See Stainless Steel Plate in Coils from Belgium: Notice of Preliminary Results of Antidumping Duty Changed Circumstances Review 76 FR 66271 (October 26, 2011) (“Preliminary Results”).

Analysis of Comments Received

The issue raised in Aperam's case brief is addressed in the “Issues and Decision Memorandum for the Final Results of the Changed Circumstances Review of the Antidumping Duty Order on Stainless Steel Plate in Coils from Belgium,” from Christian Marsh, Deputy Assistant Secretary for Antidumping and Countervailing Duty Operations, to Paul Piquado, Assistant Secretary for Import Administration, (“Issues and Decision Memorandum”),⁴ dated concurrently with this notice and which is hereby adopted by this notice. A list of the issues which parties have raised, and to which we have responded in the Issues and Decision Memorandum, is attached to this notice as an Appendix.

⁴ The Issues and Decision Memorandum is a public document and is on file electronically via Import Administration's Antidumping and Countervailing Duty Centralized Electronic Service System (“IA ACCESS”). IA ACCESS is available in the Central Records Unit, main Commerce Building, Room 7046. In addition, a complete version of the Issues and Decision Memorandum can be accessed directly on the Web at http://ia.ita.doc.gov/frn/. The signed Issues and Decision Memorandum and electronic version of the Issues and Decision Memorandum are identical in content.

Scope of the Antidumping Duty Order

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) Plate not in coils; (2) Plate that is not annealed or otherwise heat treated and pickled or otherwise descaled; (3) Sheet and strip; and (4) Flat bars.

The merchandise subject to this order is currently classifiable in the Harmonized Tariff Schedule of the United States (“HTSUS”) at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the written description of the merchandise subject to these orders is dispositive.

Final Results of Changed Circumstances Review

Based on the information provided by Aperam, the Department's analysis in the Preliminary Results (which we incorporate herein by reference), and in light of the fact that no interested parties submitted any comments on the Department's preliminary finding with respect to Aperam, the Department hereby determines that Aperam is the successor-in-interest to AMSB and is entitled to AMSB's treatment under the order. The Department will rely on the date of the publication of these final results of the instant changed circumstances review in the Federal Register as the effective date of this determination.

Instructions to U.S. Customs and Border Protection

We will instruct U.S. Customs and Border Protection to apply the cash-deposit rate in effect for AMSB to all entries of the subject merchandise from Aperam that were entered, or withdrawn from warehouse, for consumption on or after the date of publication of these final results of the changed circumstances review.

Notifications

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results and notice in accordance with sections 751(b)(1) and 777(i)(1) and (2) of the Tariff Act of 1930, as amended, and 19 CFR 351.216(e).

Dated: April 4, 2012.
Paul Piquado,
Assistant Secretary for Import Administration.

Appendix I

List of Comments in the Issues and Decision Memorandum

Comment 1: Retroactive Application of the Final Results

[FR Doc. 2012-8864 Filed 4-11-12; 8:45 am]

BILLING CODE 3510-DS-P